DEPARTMENT OF COMMERCE

National Oceanic and Atmospheric Administration

Intent To Prepare an Environmental Impact Statement on the Proposed Indiana Coastal Zone Management Program

AGENCY: National Oceanic and Atmospheric Administration, U.S. Department of Commerce.

ACTION: Notice of intent to prepare an environmental impact statement as required under the National Environmental Policy Act, 42 U.S.C. 4321, et seq. (NEPA).

SUMMARY: Notice is hereby given of the intent to prepare a Draft Environmental Impact Statement (DEIS) on the proposed approval of the Indiana Lake Michigan Coastal Program (LMCP) under the provisions of section 306 of the Federal Coastal Zone Management Act of 1972, as amended, 16 U.S.C. 1455. The Lake Michigan Coastal Program (LMCP) is the result of much effort made by federal, state, and local agencies, and the participation and contribution of local citizens. It is also a significant step in Indiana's efforts to develop a partnership with the federal Coastal Zone Management Program.

Federal approval of the LMCP would make the State eligible for program administration grant funds and require that Federal actions be consistent with the Programs.

The LMCP is a dynamic plan that will continue to be updated to reflect the priorities of Indiana's coastal region. Through continuing public participation an comment, the LMCP will enhance the state's role in planning and managing natural and cultural resources and building partnerships between federal, state and local agencies and organizations.

Federal alternatives will include delaying or denying approval if certain requirements of the Coastal Zone Management Act have not been met. State alternatives include the possibility of modifying parts of the Program or withdrawal of the request for Federal approval.

In order to determine the scope and significance of issues to be addressed in the DEIS, the Office of Ocean and Coastal Resource Management (OCRM) hereby solicits comments on the proposed action, particularly with respect to the following issues:

(1) The adequacy of the scope and geographic coverage of the Program's laws and regulations to manage impacts on wetlands, beaches, and other vulnerable natural resources;

(2) The adequacy of the mechanisms for State agency coordination and consultation in order to effectively implement the LMCP; and

(3) The adequacy of the mechanisms for ensuring State agency consistency with the policies of the LMC and resolving conflicts between agencies.

NOAA and IDNR invite the general public, federal agencies, Native American tribes, state and local governments and agencies, and all other interested panties to comment on the scope of this EIS. The manner in which the state proposes to address the above requirements will be presented in the state public review draft EIS of the LMCP, to be made available in the Summer 2001. Copies of the state draft document will also be available from OCRM.

DATES: The public scoping period begins with the publication of this notice in the Federal Register. Persons or organizations wishing to submit written comment should do so by September 10, 2001. Comments received after that date will be considered to extent practicable.

NOAA and IDNR will conduct public scoping meetings in Michigan City, Highland, and Portage, Indiana, to provide the public with information about the proposed project and to receive oral and written comments on the scope of the EIS, including alternatives and environmental issues that NOAA and IDNR should consider. The dates, times and locations for these public meetings will be announced in local media at least 30 days prior to the meeting dates.

Scoping meetings are scheduled as follows:

1. Tuesday, June 26, 2001, 7 p.m., Holiday Inn, Michigan City, IN.

2. Wednesday, June 27, 2001, 7 p.m., Wicker Park, Highland, IN.

3. Thursday, June 28, 2001, 7 p.m., Woodland Park, Portage, IN

In order to facilitate an understanding of the program's objectives, IDNR personnel will be available at the scoping meetings to explain the program to the public and answer questions. INDR will designate a facilitator for the scoping meetings. At the opening of each meeting, the facilitator will establish the order of speakers and will announce any additional procedures necessary for conducting the meeting. To ensure that all persons wishing to make a presentation are given the opportunity to speak, a five-minute limit may be enforced for each speaker, with the exception of public officials and representatives of groups, who will be allotted ten minutes each. IDNR encourages those providing oral comments to also submit them in writing. Comment cards will be available at the meetings for those who prefer to submit their comments in written form. Speakers may be asked clarifying questions to ensure that IDNR representatives fully understand the comments and suggestions made by meeting participants, but the scoping meeting will not be conducted as evidentiary hearings.

The review process will also include three additional public meetings on the draft EIS to be held in northwest Indiana this Fall in which the public can learn more about the LMCP. The general public, stakeholders and interested organizations will be asked to offer comments on the plan. Submitted comments will be recorded and incorporated into a draft Environmental Impact Statement (EIS). The draft will be presented at additional public meeting for further review. Revisions will be made to the draft EIS and a final EIS will be developed.

SUPPLEMENTARY INFORMATION: The State of Indiana is proposing to develop an Indiana Lake Michigan Coastal Program based on Indiana's existing laws and policies and to participate in the Coastal Zone Management Program (CZMP). The CZMP), established in 1972, is a partnership between coastal states and the National Oceanic and Atmospheric Administration. The CZMP is a unique federal-state partnership that provides a proven basis for protecting, restoring, and responsibly developing the nation's important and diverse coastal communities and resources. Currently 33 of the 35 coastal states participate in the CZMP. State and federal coastal management efforts are guided by the CZMP's strategic framework which is organized around three major themes: sustain coastal communities, sustain coastal ecosystems, and improve government efficiency.

There are many benefits to participating in the CZMP, including establishing partnerships with federal, state, and local agencies and other coastal professionals, obtaining consistency with Indiana's existing laws, technical assistance, and financial assistance. It is estimated that Indiana will receive over $600,000 annually to implement a program that address the priorities of Indiana's coastal region. Funds received through the CZMP will be used to administer the program and establish an Indiana Coastal Grants Program.

To participate in the CZMP, Indiana must develop a Lake Michigan Coastal Program (LMCP). The Indiana Department of Natural Resources (IDNR) was selected as the lead state agency for program development. The IDNR has worked with local and state agencies and organizations to identify priorities for Indiana's coastal region. The LMCP describes how Indiana can meet those regional priorities through its existing management authorities without the creation of any new laws. The IDNR will facilitate public review of the proposed plan to fully develop the LMCP.

ADDRESSES: Requests for the above described documents and all comments should be made to:

Laurie Rounds, Program Manager, Lake Michigan Coastal Program, 402 W. Washington Street, Room W264, Indianapolis, IN 46204, tel 317/233-0132, e-mail: coastal@dnr.state.in.us.

Diana Olinger, Assistant Regional Manager, Great Lakes Region, Coastal Programs Division, Office of Ocean and Coastal Resource Management, 1305 East-West Highway (N/ORM3), Silver Spring, Maryland 20910, tel. 301/713-3155, ext 149, e-mail: diana.olinger@noaa.gov.

(Federal Domestic Assistance Catalog 11.419 Coastal Zone Management Program Administration

Dated: June 5, 2001.
Ted I. Lillestolen,
Deputy Assistant Administrator or Ocean Services and Coastal Zone Management, National Oceanic and Atmospheric Administration, Department of Commerce.

[FR Doc. 01-14546 Filed 6-8-01; 8:45 am]

BILLING CODE 3510-08-M